DEPARTMENT OF COMMERCE

International Trade Administration

[C-475-823]

Stainless Steel Plate in Coils from Italy: Final Results of Countervailing Duty Changed Circumstances Review and Revocation of Countervailing Duty Order, in Whole

AGENCY: Import Administration, International Trade Administration, Department of Commerce.

SUMMARY: The Department of Commerce is revoking the countervailing duty order on stainless steel plate in coils from Italy because we have concluded that substantially all domestic producers lack interest in the relief provided by this order.

EFFECTIVE DATE: March 28, 2006.

FOR FURTHER INFORMATION CONTACT: Brandon Farlander or Audrey R. Twyman, AD/CVD Operations, Office 1, Import Administration, International Trade Administration, U.S. Department of Commerce, 14th Street and Constitution Avenue, NW., Washington, DC 20230; telephone (202) 482-0182 and (202) 482-3534, respectively.

SUPPLEMENTARY INFORMATION:

Background

On May 11, 1999, the Department of Commerce (the “Department”) published a countervailing duty (“CVD”) order on stainless steel plate in coils (“SSPC”) from Italy. See Notice of Amended Final Determinations: Stainless Steel Plate in Coils from Belgium and South Africa; and Notice of Countervailing Duty Orders: Stainless Steel Plate in Coils from Belgium, Italy and South Africa, 64 FR 25288 (May 11, 1999). The order was amended on March 11, 2003. See Notice of Amended Countervailing Duty Orders; Certain Stainless Steel Plate in Coils from Belgium, Italy, and South Africa, 68 FR 11524 (March 11, 2003). The amended order was corrected on April 24, 2003. See Certain Stainless Steel Plate in Coils from Belgium, Italy, and South Africa; Notice of Correction to the Amended Countervailing Duty Orders, 68 FR 20115 (April 24, 2003).

On December 2, 2005, the Department received a request from Allegheny Ludlum Corporation and AK Steel Corporation, two of the petitioners in the original investigation, that the Department initiate a changed circumstances review for purposes of revoking the CVD order. Specifically, Allegheny Ludlum Corporation and AK Steel Corporation requested that the CVD order be revoked ab initio and that the Department fully refund any countervailing duties deposited pursuant to the order on unliquidated entries. Allegheny Ludlum Corporation and AK Steel Corporation state that they are no longer interested in maintaining the CVD order or in the imposition of countervailing duties on the subject merchandise.

On January 4, 2006, the Department published a notice of initiation of a changed circumstances review of the CVD order on SSPC from Italy. See Stainless Steel Plate in Coils from Italy: Initiation of Countervailing Duty Changed Circumstances Review and Notice of Consideration of Revocation of Order, 71 FR 328 (January 4, 2006) (“Initiation Notice”). In the Initiation Notice, we indicated interested parties could submit comments. No comments were received.

On February 14, 2006, the Department preliminarily revoked the order effective September 4, 1998. See Stainless Steel Plate in Coils from Italy: Preliminary Results of Countervailing Duty Changed Circumstances Review and Intent to Revoke Order, 71 FR 7736 (February 14, 2006) (“Preliminary Results”). In the Preliminary Results, we again afforded interested parties an opportunity to submit comments. We did not receive any comments following the publication of the Preliminary Results.

Scope of the Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils, (2) plate that is not annealed or otherwise heat treated and pickled or otherwise descaled, (3) sheet and strip, and (4) flat bars. The merchandise subject to this order is currently classifiable in the Harmonized Tariff Schedule of the United States (“HTSUS”) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to this order is dispositive.

Final Results of Review and Revocation of the Countervailing Duty Order, in Whole

Pursuant to section 751(d)(1) of the 1930 Tariff Act, as amended (the “Act”), and 19 CFR 351.222(g), the Department may revoke an antidumping or CVD order, in whole or in part, based on a review under section 751(b) of the Act (i.e., a changed circumstances review). Section 751(b)(1) of the Act requires a changed circumstances review to be conducted upon receipt of a request that shows changed circumstances sufficient to warrant a review. Section 782(h)(2) of the Act gives the Department the authority to revoke an order if producers accounting for substantially all of the production of the domestic like product have expressed a lack of interest in the continuation of the order. Section 351.222(g) of the Department's regulations provides that the Department will conduct a changed circumstances administrative review under 19 CFR 351.216, and may revoke an order (in whole or in part), if it concludes that (i) producers accounting for substantially all of the production of the domestic like product to which the order pertains have expressed a lack of interest in the relief provided by the order, in whole or in part, or (ii) other changed circumstances sufficient to warrant revocation exist. The Department has interpreted “substantially all” production normally to mean at least 85 percent of domestic production of the like product. See Certain Tin Mill Products From Japan: Final Results of Changed Circumstances Review, 66 FR 52109 (October 12, 2001).

As noted above and in the Preliminary Results, Allegheny Ludlum Corporation and AK Steel Corporation requested this changed circumstances review on the basis that they are no longer interested in maintaining the CVD order or in the imposition of CVD duties on the subject merchandise. Also, the parties to the litigation concerning these entries have agreed to withdraw their appeals.

Because the Department did not receive any comments in response to the Initiation Notice or the Preliminary Results opposing this changed circumstances review or the preliminary decision to revoke, in whole, the CVD order effective September 4, 1998, we find that producers accounting for substantially all of the production of the domestic like product to which this order pertains lack interest in the relief provided by the order. In accordance with sections 751(b), 751(d), and 782(h) of the Act and 19 CFR 351.216 and 351.222(g), the Department determines that there is a reasonable basis to find that changed circumstances exist sufficient to warrant revocation of the order. Therefore, the Department is revoking the order on SSPC from Italy, in whole, with regard to the products described above under the “Scope of the Order” section.

Instructions to U.S. Customs and Border Protection

In accordance with 19 CFR 351.222(g), upon dismissal by the court of all pending appeals involving the subject merchandise as described above under the “Scope of the Order” section, the Department will instruct U.S. Customs and Border Protection (“CBP”) to liquidate without regard to countervailing duties, all unliquidated entries of the subject merchandise entered, or withdrawn from warehouse, for consumption on or after September 4, 1998, i.e., the publication date of the Department's Preliminary Determination in the underlying investigation. In accordance with section 778 of the Act, we will also instruct CBP to pay interest on any refunded CVD deposits with respect to the subject merchandise entered, or withdrawn from warehouse, for consumption on or after May 11, 1999, the date of publication in the Federal Register of the CVD order.

Notification Regarding APOs

This notice also serves as a reminder to parties subject to administrative protective orders (APOs) of their responsibility concerning the disposition of proprietary information disclosed under APO in accordance with 19 CFR 351.306. Timely written notification of the return/destruction of APO materials or conversion to judicial protective order is hereby requested. See 19 CFR 351.305. Failure to comply with the regulations and terms of an APO is a sanctionable violation. See 19 USC 1677f and 19 CFR Part 354.

We are issuing and publishing this determination and notice in accordance with sections 751(b)(1) and 777(i)(1) of the Act and 19 CFR 351.216, 351.221, and 351.222.

Dated: March 21, 2006.
Stephen J. Claeys,
Acting Assistant Secretary for Import Administration.

[FR Doc. E6-4482 Filed 3-27-06; 8:45 am]

BILLING CODE 3510-DS-S